DEPARTMENT OF THE INTERIOR

Bureau of Land Management

Colorado: Filing of Plats of Survey

September 29, 2006.

SUMMARY: The plats of survey of the following described land will be officially filed in the Colorado State Office, Bureau of Land Management, Lakewood, Colorado, effective 10 a.m., September 29, 2006. All inquiries should be sent to the Colorado State Office (CO-956), Bureau of Land Management, 2850 Youngfield Street, Lakewood, Colorado 80215-7093.

The supplemental plat creating new lot 133 in the SW¼NE¼ of section 13, in Township 1 North, Range 72 West of the Sixth Principal Meridian, Colorado, was accepted July 20, 2006.

The supplemental plat creating lots 22 and 23 in sec. 18, of Township 49 North, Range 10 East, New Mexico Principal Meridian, Colorado, was accepted July 24, 2006.

The plats and field notes of the dependent resurvey and surveys in Townships 33 and 34 North (SU), Range 13 West, of the New Mexico Principal Meridian, Colorado, Group 1419, were accepted July 28, 2006.

The supplemental plat correcting lotting errors made on the supplemental plat accepted May 5, 2006, of section 22, in Township 1 North, Range 71 West, Sixth Principal Meridian, Colorado, was accepted July 31, 2006.

The plat, and field notes of the dependent resurvey in Sections 13 and 24, Township 15 South, Range 76 West, Sixth Principal Meridian, Colorado, Group 1435, was accepted August 1, 2006.

The plat and field notes of the Dependent Resurvey of a portion of Tract 37 and the Corrective Dependent Resurvey of the metes-and-bounds survey of Public Land Tract 38, Township 5 South, Range 74 West, of the Sixth Principal Meridian, Colorado, Group 1270, was accepted August 7, 2006.

The plat and field notes of the dependent resurvey in Section 8, Township 9 South, Range 74 West, Sixth Principal Meridian, Colorado, Group 1448, was accepted August 11, 2006.

The plat and field notes of the location and remonumentation of certain original corners in, Township 10 North, Range 101 West, Sixth Principal Meridian, Colorado, Group 750, was accepted August 15, 2006.

The plat and field notes of the dependent resurvey of a portion of the Colorado-New Mexico State Line (S. bdy.), the Eighth Standard Parallel North (N. bdy.) and west boundary, and the survey of the east boundary of Townships 32 North, Range 16 West, of the New Mexico Principal Meridian, Colorado, Group 1425, was accepted August 22, 2006.

The plat and field notes of the dependent resurvey and survey, in Township 27 South, Range 72 West, Sixth Principal Meridian, Colorado, Group 1410, was accepted September 12, 2006.

The plat and field notes of the dependent resurvey and survey in Fractional Township 32 North, Range 1 East, New Mexico Principal Meridian, Colorado, Group 1447, was accepted September 14, 2006.

The plat which includes the field notes, and is the entire record of this resurvey, in Township 33½ North, Range 17 West, New Mexico Principal Meridian, Colorado, Group 1452, was accepted September 20, 2006.

The plat and field notes of the dependent resurveys and surveys, in Township 3 North, Range 80 West, Sixth Principal Meridian, Colorado, Group 1443, was accepted September 27, 2006.

The plat (in 2 sheets), which is the entire record, of the dependent resurvey of a portion of Mineral Survey 359, Kirsch Placer, and subdivisional lines, and the remonumentation of certain corners, in Township 12 South, Range 79 West, Sixth Principal Meridian, Colorado, Groups 750 and 1416, was accepted September 27, 2006.

Randall M. Zanon,
Chief Cadastral Surveyor for Colorado.

[FR Doc. E6-16482 Filed 10-4-06; 8:45 am]

BILLING CODE 4310-JB-P